DEPARTMENT OF TRANSPORTATION

Federal Aviation Administration

14 CFR Parts 121, 135 and 142

[Docket No. FAA-2011-1359]

Advisory Circular for Stall and Stick Pusher Training

AGENCY: Federal Aviation Administration (FAA), Department of Transportation (DOT).

ACTION: Notice of availability of proposed Advisory Circular for Stall and Stick Pusher Training, request for comment.

SUMMARY: This notice announces the availability of a proposed Advisory Circular, regarding stall and stick pusher training for transport category airplanes for comment. This Advisory Circular provides guidance to training providers on stall event and stick pusher demonstration training, including recommendations and best practices for academic training, job performance training, and instructor training.

DATES: Written comments must be received on or before January 12, 2012.

ADDRESSES: Send comments identified by docket number FAA-2011-1359 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at (202) 493-2251.

Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Robert Burke, Air Transportation Division, Flight Standards Service, Federal Aviation Administration, 800 Independence Avenue SW., Washington, DC 20591; telephone: (202) 267-8262; facsimile: (202) 267-5229; email: robert.burke@faa.gov.

Background

The primary goal of this proposed advisory circular is to provide training, testing, and checking recommendations designed to maximize the likelihood that pilots will respond correctly and consistently to unexpected stall warnings, aerodynamic stalls, and/or stick pusher activations. Additionally, the advisory circular provides guidance for operators and training centers in the development of stall and stick pusher event training to include stall prevention, recognition of an approach-to-stall or actual stall, familiarity with stick pusher systems, and the correct procedure to recover from those conditions. Core principals of this Advisory Circular include:

• Emphasis of “reduce angle of attack” response as the primary response for stall events.

• Clarification of the evaluation criteria for a recovery from a stall or approach.

• Scenario-based training that includes realistic events that could be encountered in operational conditions, including stalls encountered with the autopilot engaged.

• Clarification of training to a full stall, to ensure that pilots execute the stall recovery at the first indication of a stall.

• Stick Pusher demonstration training.

The information within this proposed advisory circular was developed based on a review of recommended practices developed by major aircraft manufacturers, labor organizations, air carriers, training organizations, simulator manufacturers, and industry representative organizations. The FAA recognizes that the content of this draft AC explains in further detail concepts proposed in the supplemental notice of proposed rulemaking (SNPRM), entitled Qualification, Service, and Use of Crewmembers and Aircraft Dispatchers, FAA Docket FAA-2008-0677, and corresponding flightcrew member training AC, regarding stall and stick pusher training. Following review of the comments regarding the stall and stick pusher training proposed in the SNPRM, this advisory circular may require additional revision. The FAA will review both the comments received in response to this advisory circular and the SNPRM, and revise the documents accordingly to ensure consistency and standardization.

The agency will consider all comments received by January 12, 2012. Comments received after that date may be considered if consideration will not delay agency action on the review. A copy of the advisory circular is available for review in the assigned docket for the advisory circular at http://www.regulations.gov.

Issued in Washington, DC, on December 5, 2011.
John M. Allen,
Director, Flight Standards Service.

[FR Doc. 2011-31971 Filed 12-12-11; 8:45 am]

BILLING CODE 4910-13-P